DEPARTMENT OF HEALTH AND HUMAN SERVICES

[Document Identifier: OS-0990-0275]

60-Day Notice; Agency Information Collection Request; 60-Day Public Comment Request

AGENCY: Office of the Secretary, HHS.

In compliance with the requirement of section 3506(c)(2)(A) of the Paperwork Reduction Act of 1995, the Office of the Secretary (OS), Department of Health and Human Services, is publishing the following summary of a proposed information collection request for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

To obtain copies of the supporting statement and any related forms for the proposed paperwork collections referenced above, e-mail your request, including your address, phone number, OMB number, and OS document identifier, to Sherette.funncoleman@hhs.gov, or call the Reports Clearance Office at (202) 690-6162. Written comments and recommendations for the proposed information collections must be directed to the OS Paperwork Clearance Officer at the above e-mail address within 60 days.

Proposed Project: Uniform Data Set (UDS)—Revision—OMB No. 0990-0275—Office of Public Health Science (OPHS)—Office of Minority Health.

Abstract: The Office of Minority Health is requesting an approval on a revised collection for three (3) years for a currently approved collection using the OMB approved Uniform Data Set (OMB No. 0990-0275), the tool used by OMH to collect program management and performance data for all OMH-funded projects. Respondents for this data collection include the project directors leading OMH-funded projects. Affected public includes not-for-profit institutions and State, Local, or Tribal Governments. The clearance is also to make modifications to the UDS tool, which includes the exclusion of a large number of data elements which significantly reduces reporting burden for grantees, a change in the name of the data collection tool from the UDS to the Performance Data System (PDS), and to increase the frequency of reporting from semi-annual to quarterly reporting. The modifications are intended to evolve the UDS into a system that improves OMH's ability to comply with Federal reporting requirements and monitor and evaluate performance by enabling the efficient collection of more performance-oriented data which are tied to OMH-wide performance reporting needs.

Estimated Annualized Burden Table
Forms (if necessary) | Type of respondent | Number of respondents | Number of responses per respondent | Average burden hours per response | Total burden hours
PDS | OMH Grantee | 104 | 4 | 2.5 | 1,040

Seleda Perryman,
Paperwork Reduction Act Reports Clearance Officer, Office of the Secretary.

[FR Doc. 2010-16876 Filed 7-9-10; 8:45 am]

BILLING CODE 4150-05-P